GENERAL SERVICES ADMINISTRATION

41 CFR Part 102-42

[FMR Change 2011-01; FMR Case 2011-102-1; Docket 2011-0008; Sequence 1]

RIN 3090-AJ12

Federal Management Regulation; Change in Consumer Price Index Minimal Value

AGENCY: Office of Governmentwide Policy, GSA.

ACTION: Final rule.

SUMMARY: Pursuant to 5 U.S.C. 7342, at three-year intervals following January 1, 1981, the minimal value for foreign gifts must be redefined by the Administrator of General Services, after consultation with the Secretary of State, to reflect changes in the Consumer Price Index for the immediately preceding 3-year period. The required consultation has been completed and the minimal value has been increased to $350 or less as of January 1, 2011.

DATES: Effective Date: This final rule is effective May 26, 2011.

Applicability Date: This final rule applies to all foreign gifts received on or after January 1, 2011.

FOR FURTHER INFORMATION CONTACT: Mr. Robert Holcombe, Director, Asset Management Policy Division (202-501-3828).

SUPPLEMENTARY INFORMATION:

A. Executive Orders 12866 and 13563

Executive Orders 12866 and 13563 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This is not a significant regulatory action and, therefore, was not subject to review under Section 6(b) of Executive Order 12866, Regulatory Planning and Review, dated September 30, 1993. This rule is not a major rule under 5 U.S.C. 804.

B. Regulatory Flexibility Act

This final rule will not have a significant economic impact on a substantial number of small entities within the meaning of the Regulatory Flexibility Act, 5 U.S.C. 601, et seq., because the revisions are not considered substantive. This final rule is also exempt from the Regulatory Flexibility Act per 5 U.S.C. 553(a)(2) because it applies to agency management and public property. However, this final rule is being published to provide transparency in the promulgation of Federal policies.

C. Paperwork Reduction Act

The Paperwork Reduction Act does not apply because this final rule does not impose recordkeeping or information collection requirements, or the collection of information from offerors, contractors, or members of the public which require the approval of OMB under 44 U.S.C. 3501-3520.

D. Small Business Reform Act

This final rule is also exempt from congressional review prescribed under 5 U.S.C. 801 since it relates solely to agency management and personnel.

List of Subjects in 41 CFR Part 102-42

Government property management.

Dated: March 14, 2011.
Martha Johnson,
Administrator.

For the reasons set forth in the preamble, 41 CFR part 102-42 is amended as follows:

PART 102-42—UTILIZATION, DONATION, AND DISPOSAL OF FOREIGN GIFTS AND DECORATIONS

1. The authority citation for part 102-42 continues to read as follows:

Authority: 40 U.S.C. 121(c) and 5 U.S.C. 7342.

§ 102-42.10 [Amended]

2. Amend § 102-42.10, in the definition of “Minimal value,” in the first sentence, by replacing “$335” with “$350”.

[FR Doc. 2011-13028 Filed 5-25-11; 8:45 am]

BILLING CODE 6820-14-P